DEPARTMENT OF AGRICULTURE

Forest Service

Shoshone Resource Advisory Committee Agency

AGENCY: Forest Service, USDA.

ACTION: Notice of meeting.

SUMMARY: The Shoshone Resource Advisory Committee (Committee) will hold a conference call on June 28, 2011. The Committee is meeting as authorized under the Secure Rural Schools and Community Self-Determination Act (Pub. L. 110-343) and in compliance with the Federal Advisory Committee Act. The purpose of the conference call is to welcome two new members and review the second set of project submittals.

DATES: The conference call will be held June 28, 2011, at 9 a.m.

ADDRESSES: The meeting will be held via conference call.

FOR FURTHER INFORMATION CONTACT: Olga Troxel, Resource Advisory Committee Coordinator, Shoshone National Forest Supervisor's Office, (307) 578-5164.

Individuals who use telecommunication devices for the deaf (TDD) may call the Federal Information Relay Service (FIRS) at 1-800-877-8339 between 8 a.m. and 8 p.m., Eastern Standard Time, Monday through Friday.

SUPPLEMENTARY INFORMATION: The meeting is open to the public. Members of the public who wish to participate may do so by calling Olga Troxel, Resource Advisory Committee Coordinator, for conference call information. The following business will be conducted: (1) Welcome two new members, and (2) Review second set of project submittals. Persons who wish to bring related matters to the attention of the Committee may file written statements with the Committee staff before or after the meeting. Public input sessions will be provided.

Dated: May 16, 2011.
Joseph G. Alexander,
Forest Supervisor.

[FR Doc. 2011-14111 Filed 6-9-11; 8:45 am]

BILLING CODE 3410-11-M